DEPARTMENT OF DEFENSE

Department of the Air Force

[Docket ID USAF-2008-0038]

Privacy Act of 1974; System of Records

AGENCY: Department of the Air Force, DoD.

ACTION: Notice to Alter a System of Records.

SUMMARY: The Department of the Air Force proposes to alter a system of records to its inventory of record systems subject to the Privacy Act of 1974 (5 U.S.C. 552a), as amended.

DATES: The proposed action will be effective on January 2, 2009 unless comments are received that would result in a contrary determination.

ADDRESSES: Send comments to the Air Force Privacy Act Officer, Office of Warfighting Integration and Chief Information Officer, SAF/XCX, 1800 Air Force Pentagon, Suite 220, Washington, DC 20330-1800.

FOR FURTHER INFORMATION CONTACT: Mr. Kenneth Brodie at (703) 696-7557.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on October 27, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996, (February 20, 1996, 61 FR 6427).

Dated: November 25, 2008.
Morgan E. Frazier,
Alternate OSD Federal Register Liaison Officer, Department of Defense.

F036 AF DP C

Family Services Volunteer Records (June 11, 1997, 62 FR 31793).

Changes:

* * * * *

System name:

Delete entry and replace with “Family Services Volunteer and Request Records.”

System location:

Delete entry and replace with “Family Services and Field Personnel Records Group (FPerRGp) at the respective unit of assignment or servicing Military Personnel Flight. Official mailing addresses are published as an appendix to the Air Force's compilation of systems of records notices.”

Categories of individuals covered by the system:

Delete entry and replace with “All current and former participants.”

Categories of records in the system:

Delete entry and replace with “Full name, Social Security Number (SSN), Social Security Number, address, and associated information relating to an individual's training, honors/awards, participation, requests for early return to country of origin and associated actions.”

Authority for maintenance of the system:

Delete entry and replace with “10 U.S.C. 8013, Secretary of the Air Force; Air Force Regulation 211-24, Family Services Program and E.O. 9397 (SSN).”

* * * * *

Notification procedure:

Delete entry and replace with “Individuals seeking to determine whether this system of records contains information about themselves should address written inquiries to or visit the Family Services Office of the Air Force installation in question or to the Assistant Deputy Chief or Staff/Personnel for Military Personnel, Randolph Air Force Base, TX 78150-6001. Official mailing addresses are published as an appendix to the Air Force's compilation of systems of records.

Request must include full name, address, Social Security Number (SSN) and be signed.”

Record access procedures:

Delete entry and replace with “Individuals seeking access to records contained in this system of records should address written inquiries to or visit the Family Services Office of the Air Force installation in question or to the Assistant Deputy Chief or Staff/Personnel for Military Personnel, Randolph Air Force Base, TX 78150-6001. Official mailing addresses are published as an appendix to the Air Force's compilation of systems of records.

Request must include full name, address, Social Security Number (SSN) and be signed.”

* * * * *

F036 AF DP C

System name:

Family Services Volunteer and Request Records.

System location:

Family Services and Field Personnel Records Group (FPerRGp) at the respective unit of assignment or servicing Military Personnel Flight. Official mailing addresses are published as an appendix to the Air Force's compilation of systems of records notices.

Categories of individuals covered by the system:

All current and former participants.

Categories of records in the system:

Full name, Social Security Number (SSN), Social Security Number, address, and associated information relating to an individual's training, honors/awards, participation, requests for early return to country of origin and associated actions.

Authority for maintenance of the system:

10 U.S.C. 8013, Secretary of the Air Force; Air Force Regulation 211-24, Family Services Program and E.O. 9397 (SSN).

Purpose(s):

To document an individual volunteer's training, honors/awards, participation, and associated actions.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ that appear at the beginning of the Air Force's compilation of systems of records apply to this system.

Policies and practices for storing, retrieving, accessing, retaining, and disposing of records in the system:

Storage:

Maintained in visible file binders/cabinets or card files.

Retrievability:

Retrieved by name.

Safeguards:

Records from this system of records may be accessed by person(s) in performance of official duties who are properly screened and cleared for need-to-know. Records will be maintained in locked rooms.

Retention and disposal:

In active volunteer status, retained indefinitely or until superseded. The record of a volunteer who transfers or who has not been credited with participation in a 90-day period is placed in an inactive file and destroyed after 2 years by tearing into pieces, shredding, pulping, macerating, or burning.

System manager(s) and address:

Assistant Deputy Chief or Staff/Personnel for Military Personnel, Randolph Air Force Base, TX 78150-6001.

Notification procedure:

Individuals seeking to determine whether this system of records contains information about themselves should address written inquiries to or visit the Family Services Office of the Air Force installation in question or to the Assistant Deputy Chief or Staff/Personnel for Military Personnel, Randolph Air Force Base, TX 78150-6001. Official mailing addresses are published as an appendix to the Air Force's compilation of systems of records.

Request must include full name, address, Social Security Number (SSN) and be signed.

Record access procedures:

Individuals seeking access to records contained in this system of records should address written inquiries to or visit the Family Services Office of the Air Force installation in question or to the Assistant Deputy Chief or Staff/Personnel for Military Personnel, Randolph Air Force Base, TX 78150-6001. Official mailing addresses are published as an appendix to the Air Force's compilation of systems of records.

Request must include full name, address, Social Security Number (SSN) and be signed.

Contesting record procedures:

The Air Force rules for accessing records, and for contesting contents and appealing initial agency determinations are published in Air Force Instruction 37-132; 32 CFR part 806b; or may be obtained from the system manager.

Record source categories:

Information obtained from individual volunteer or is based on program participation as documented by other means.

Exemptions claimed for the system:

None.

[FR Doc. E8-28606 Filed 12-1-08; 8:45 am]

BILLING CODE 5001-06-P